ENVIRONMENTAL PROTECTION AGENCY

[EPA-HQ-OLEM-2025-0391; FRL-12904-01-OLEM]

Hazardous Waste Electronic Manifest System (“e-Manifest”) Advisory Board; Notice of Public Meeting

AGENCY: Environmental Protection Agency (EPA).

ACTION: Notice of public meeting.

SUMMARY: The Environmental Protection Agency (EPA) will convene the Hazardous Waste Electronic System (“e-Manifest”) Advisory Board for a three (3) day virtual public meeting. The purpose of the meeting is for EPA to seek the Board's consultation and recommendations regarding the e-Manifest system (Meeting Theme: “Accelerating the Future: Phasing out Paper Manifests to Unlock the Full Potential of e-Manifest”).

DATES: The meeting will be held on September 23-25, 2025, from approximately 10:00 a.m. to 5:00 p.m. EDT on each day.

ADDRESSES: This public meeting will be conducted virtually. Registration is required to attend and/or participate (as public commenter) in this public meeting. Please refer to the e-Manifest Advisory Board website https://www.epa.gov/e-manifest/hazardous-waste-electronic-manifest-system-e-manifest-advisory-board for information on how to register either as a public audience attendee or as an oral public commenter.

Comments: To make oral comments during the public meeting and be included on the meeting agenda, please register by noon on September 16, 2025. Registration instructions will be posted on the e-Manifest Advisory Board website at https://www.epa.gov/e-manifest/hazardous-waste-electronic-manifest-system-e-manifest-advisory-board. Any written comments submitted for the e-Manifest Advisory Board meeting on or before September 16, 2025, should be submitted in the public docket under Docket ID No. EPA-HQ-OLEM-2025-0391 at https://www.regulations.gov/. Written comments submitted to the public docket on or before September 16, 2025, will be provided to the e-Manifest Advisory Board for their consideration before the meeting. Anyone who wishes to submit comments after September 16, 2025, must send their written public comments or their oral comment requests directly to the Designated Federal Officer (DFO) listed under FOR FURTHER INFORMATION CONTACT. For additional instructions, see section I.B. under SUPPLEMENTARY INFORMATION.

Special accommodations: For information on access or services for individuals with disabilities, and to request accommodation of a disability, please contact the DFO listed under FOR FURTHER INFORMATION CONTACT at least ten (10) days prior to the meeting to give the EPA as much time as possible to process your request.

FOR FURTHER INFORMATION CONTACT: Fred Jenkins, DFO, Office of Resource Conservation and Recovery, U.S. Environmental Protection Agency, 1301 Constitution Avenue NW, Washington, DC 20460, telephone number: (202) 566-0344, email address: jenkins.fred@epa.gov.

SUPPLEMENTARY INFORMATION: This meeting will be open to the public. The full agenda and meeting materials will be available in the docket for the meeting and at the e-Manifest Advisory Board website at https://www.epa.gov/e-manifest/hazardous-waste-electronic-manifest-system-e-manifest-advisory-board. This public meeting will be conducted virtually. Registration is required to attend and/or participate in this public meeting. Registration instructions will be posted on the e-Manifest Advisory Board website at https://www.epa.gov/e-manifest/hazardous-waste-electronic-manifest-system-e-manifest-advisory-board. In the event the Agency needs to make subsequent changes to this meeting, the Agency will post future notices to its e-Manifest Advisory Board meeting website (https://www.epa.gov/e-manifest/hazardous-waste-electronic-manifest-system-e-manifest-advisory-board). The Agency strongly encourages the public to refer to the e-Manifest website for the latest meeting information, as sudden changes may be necessary.

General Information

A. Does this action apply to me?

This action is directed to the public in general. This action may be of particular interest to persons who are or may be subject to the Hazardous Waste Electronic Manifest (e-Manifest) Establishment Act.

B. How may I participate in this meeting?

You may participate in this meeting by providing public comments via the instructions in this document. To ensure proper receipt of your public comments by the EPA, it is imperative that you submit your comments, identified by Docket ID No. EPA-HQ-OLEM-2025-0391, at https://www.regulations.gov/. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (e.g., on the web, cloud, or other file sharing system). For additional submission methods, the full EPA public comment policy, information about CBI or multimedia submissions, and general guidance on making effective comments, please visit https://www.epa.gov/dockets/commenting-epa-dockets.

Written comments: The Agency encourages written comments be submitted electronically via https://www.regulations.gov/, into Docket ID No. EPA-HQ-OLEM-2025-0391 on or before September 16, 2025, to provide the e-Manifest Advisory Board the time necessary to consider and review the written comments. Written comments are accepted until the date of the meeting, but anyone submitting written comments after September 16, 2025, should contact the DFO listed under FOR FURTHER INFORMATION CONTACT.

Oral comments: The Agency encourages each individual or group wishing to make brief oral comments to the e-Manifest Advisory Board to please register as an oral commenter for the meeting at the e-Manifest Advisory Board website, https://www.epa.gov/e-manifest/hazardous-waste-electronic-manifest-system-e-manifest-advisory-board, by noon on September 16, 2025, to be included on the meeting agenda. Anyone submitting oral public comments request after September 16, 2025, should also contact the DFO listed under FOR FURTHER INFORMATION CONTACT. Requests to present oral comments will be accepted until the date of the meeting. Registration is required to attend and/or participate as an oral public commenter in this public meeting. Please refer to the e-Manifest Advisory Board website at https://www.epa.gov/e-manifest/hazardous-waste-electronic-manifest-system-e-manifest-advisory-board for information on how to register either as an oral public commenter or public audience attendee. To the extent that time permits, the Chair of the e-Manifest Advisory Board may permit the presentation of oral comments at the meeting by interested persons who have not previously requested time. The request should identify the name of the individual making the presentation, the organization (if any) that the individual represents, and any requirements for audiovisual presentation support. Oral comments before the e-Manifest Advisory Board are limited to approximately five (5) minutes unless prior arrangements have been made. In addition, each speaker should provide a copy of their comments and presentation to the DFO so that they can be distributed to the e-Manifest Advisory Board at the meeting.

C. Purpose of the e-Manifest Advisory Board

The Hazardous Waste Electronic Manifest System Advisory Board is established in accordance with the provisions of the Hazardous Waste Electronic Manifest Establishment Act (e-Manifest Act), 42 U.S.C. 6939g, and the Federal Advisory Committee Act (FACA), 5 U.S.C. App.2. The e-Manifest Advisory Board is in the public interest and supports the EPA in performing its duties and responsibilities. The Advisory Board shall meet annually to discuss, evaluate the effectiveness of, and provide recommendations about the system to the EPA Administrator.

The sole duty of the Advisory Board is to provide advice and recommendations to the EPA Administrator or designee. As required by the e-Manifest Act, the e-Manifest Advisory Board is composed of nine (9) members. One (1) member is the EPA Administrator (or a designee), who serves as Chairperson of the Advisory Board. The rest of the committee is composed of:

• At least two (2) members who have expertise in information technology;

• At least three (3) members who have experience in using or represent users of the manifest system to track the transportation of hazardous waste under the e-Manifest Act;

• At least three (3) members who are State representatives responsible for processing manifests.

All members of the e-Manifest Advisory Board, except for the EPA Administrator, are appointed as Expert members or Representative members.

D. Public Meeting

As directed by Congress, EPA launched “e-Manifest” in 2018 to modernize the nation's cradle-to-grave hazardous waste tracking process. By enabling the transition from a paper-intensive process to an electronic system, the EPA estimates e-Manifest will ultimately save state and industry users more than $50 million annually, once electronic manifests are widely adopted. However, only a very small fraction of the two million manifests received annually by EPA are electronic manifests, despite years of system improvements and outreach to industry. EPA seeks to establish a clear timeline for phasing out paper manifests, providing a consistent goalpost for industry and propelling the program forward to the future of electronic manifests.

E. e-Manifest Advisory Board Documents and Meeting Minutes

The meeting background paper, related supporting materials, charge/questions to the Advisory Board, the Advisory Board membership roster (i.e., members attending this meeting), and the meeting agenda will be available by approximately mid-August of 2025. In addition, the Agency may provide additional background documents as the materials become available. You may obtain electronic copies of these documents, and certain other related documents that might be available at https://www.regulations.gov/ via the Docket ID No. EPA-HQ-OLEM-2025-0391 and at the e-Manifest Advisory Board website at: https://www.epa.gov/e-manifest/hazardous-waste-electronic-manifest-system-e-manifest-advisory-board.

The e-Manifest Advisory Board will prepare meeting minutes summarizing its recommendations to the Agency approximately ninety (90) days after the meeting. The meeting minutes will be posted on the e-Manifest Advisory Board website, or they may be obtained from the public docket at https://www.regulations.gov/ via the Docket ID No. EPA-HQ-OLEM-2025-0391.

Dated: July 30, 2025.
Carolyn Hoskinson,
Director, Office of Resource Conservation and Recovery.

[FR Doc. 2025-14977 Filed 8-6-25; 8:45 am]

BILLING CODE 6560-50-P